DEPARTMENT OF VETERANS AFFAIRS

Creating Options for Veterans Expedited Recovery (COVER) Commission; Notice of Meeting

In accordance with the Federal Advisory Committee Act, the Creating Options for Veterans Expedited Recover (COVER) Commission gives notice that a meeting will be held March 5, 2019 COVER Commission Duty Workgroup Virtual Out Briefs.

The purpose of the COVER Commission is to examine the evidence-based therapy treatment model used by the Department of Veterans Affairs (VA) for treating mental health conditions of Veterans and the potential benefits of incorporating complementary and integrative health approaches as standard practice throughout the Department.

On March 5, 2019, the open meeting will be held virtually from 1:00-4:00 p.m. EST via a dedicated phone line for the COVER Commission and a listening line for the public to call in. These meetings are for Commissioners to summarize the COVER Commission subcommittee's activities and findings since the open session updates on January 15, 2019 and to further discuss applicability to the charter and legislative requirements.

The listening line number for the public for the open session for subcommittee updates on March 5, 2019 is 800-767-1750; access code 48664#. The line will be activated 10 minutes before the call-in session. Listeners are asked to acknowledge themselves as being present will be asked to sign in virtually with an email to COVERCommission@va.gov. Members of the public are invited to open sessions. Any member of the public seeking additional information should email COVERCommission@va.gov. The Designated Federal Officer for the Commission is Mr. John Goodrich. He and the staff will be monitoring and responding to questions or comments sent to this email box. The Committee will also accept written comments which may be sent to the same email box. In the public's communications with the COVER Commission, the writers must identify themselves and state the organizations, associations, or persons they represent.

Dated: February 12, 2019.
LaTonya L. Small,
Federal Advisory Committee Management Officer.

[FR Doc. 2019-02582 Filed 2-15-19; 8:45 am]

BILLING CODE P